DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than November 30, 2001.

Also, interested persons are invited to submit written comments regarding the subject matter of the petitions to the Director of DTAA at the address shown below not later than November 30, 2001.

Petitions filed with the Governors are available for inspection at the Office of the Director, DTAA, ETA, DOL, Room C-5311, 200 Constitution Avenue, NW., Washington, DC 20210.

Signed at Washington, DC this 13th day of November, 2001.
Edward A. Tomchick,
Director, Division of Trade Adjustment Assistance.

Appendix
Subject firm | Location | Date received at Governor's Office | Petition No. | Articles produced
Fibermark (PACE) | Rochester, MI | 10/22/2001 | NAFTA-5,453 | Fiber based materials.
Faraday LLC (IBEW) | Tecumseh, MI | 10/22/2001 | NAFTA-5,454 | Fire alarm systems.
Harris Welco (Wkrs) | Kings Mountain, NC | 10/22/2001 | NAFTA-5,455 | Plastic lens.
Apparel Finishers (Wkrs) | Athen, GA | 10/22/2001 | NAFTA-5,456 | Garments.
Private Manufacturing (Wkrs) | El Paso, TX | 10/19/2001 | NAFTA-5,457 | Warehousing & packing for garments.
Scientific Atlanta (Wkrs) | Norcross, GA | 10/22/2001 | NAFTA-5,458 | Electronic hardware.
Mulox (Wkrs) | Baxley, GA | 10/23/2001 | NAFTA-5,459 | Flexible bulk containers.
Summitville Carolina (Wkrs) | Morganton, NC | 10/23/2001 | NAFTA-5,460 | Glazed ceramic floor.
Key Industries (Wkrs) | Tompkinsville, KY | 10/23/2001 | NAFTA-5,461 | Blue jeans and overalls.
Modern Engineering (Wkrs) | Troy, MI | 10/24/2001 | NAFTA-5,462 | Engineering documents.
C-Mac Quartz Crystals (Wkrs) | Mechanicsburg, PA | 10/25/2001 | NAFTA-5,463 | Electronic oscillators.
Harvard Industries (UAW) | Jackson, MI | 10/25/2001 | NAFTA-5,464 | Automotive cooling fans for car.
Teasdale Tool (Co.) | Meadville, PA | 10/25/2001 | NAFTA-5,465 | Molds, Mold insorts and molded products.
Nocona Athletic Goods—Nocona Leather (Co.) | Nocona, TX | 10/25/2001 | NAFTA-5,466 | Baseball gloves and football protective.
Commercial Warehouse Trail (Co.) | El Passo, TX | 10/25/2001 | NAFTA-5,467 | Surgical blankets.
CW Industries—Hazelton Enterprises (Wkrs) | Hazelton, PA | 10/25/2001 | NAFTA-5,468 | Electrical switches.
Aalfs Manufacturing (Co.) | Mena, AR | 10/25/2001 | NAFTA-5,469 | Denim bottoms.
Tyco International Power Systems (CWA) | Mesquite, TX | 10/26/2001 | NAFTA-5,470 | Power supplies.
Syst-A-Matic tool and Design (Co.) | Meadville, MA | 10/29/2001 | NAFTA-5,471 | Design and build of connector holders.
Design and Cut (Wkrs) | Cartersville, GA | 10/29/2001 | NAFTA-5,472 | Cut clothes.
Madill Corporation (IAM) | Kalama, WA | 10/25/2001 | NAFTA-5,473 | Logging equipment.
Bremen Bowdon Invest (Wkrs) | Bowdon, GA | 10/29/2001 | NAFTA-5,474 | Men's suits, sport coats and pants.
Carling Technologies—Carling Switch (Wkrs) | Brownsville, TX | 10/26/2001 | NAFTA-5,475 | Switches and magnetic circuit breakers.
Modern Plastic Technics (Wkrs) | West Berlin, NJ | 10/17/2001 | NAFTA-5,476 | Bar code scanning equipment.
Vison Tool and Manufacturing (Wkrs) | Meadville, PA | 10/26/2001 | NAFTA-5,477 | Molds, dies and spare tooling.
Precon New Products (Wkrs) | Boise, ID | 10/22/2001 | NAFTA-5,478 | Retractable phone cords.
Stan's Wood Products (Wkrs) | Bend, OR | 10/25/2001 | NAFTA-5,479 | Pressboard and particle board.
AA Precisioneering (Wkrs) | Meadville, PA | 10/29/2001 | NAFTA-5,480 | Injection molds.
Texfi Industries (Co.) | Jefferson, GA | 10/29/2001 | NAFTA-5,481 | Apparel fabric.
Texfi Industries (Co.) | Rocky Mountain, NC | 10/29/2001 | NAFTA-5,482 | Apparel fabric.
Hi Swear Automotive (Co.) | Torrance, CA | 10/24/2001 | NAFTA-5,483 | Wheel bearing nuts.
Maysville Garment (Co.) | Maysville, NC | 10/29/2001 | NAFTA-5,484 | Knit & woven shirts, dresses, knit pants.
Harris Welco—Welcast Plastics (Co.) | Barberton, OH | 10/29/2001 | NAFTA-5,485 | Plastic lens.
Dixon Ticonderoga (Wkrs) | Sandvsky, OH | 10/29/2001 | NAFTA-5,486 | Lead and chalk.
Crouzet Corporation (Co.) | Carrollton, TX | 10/27/2001 | NAFTA-5,487 | Timers.
Phelps Dodge Sierrita (Co.) | Green Valley, AZ | 10/29/2001 | NAFTA-5,488 | Cooper.
Arvinmeritor (Co.) | Fayette, AL | 10/29/2001 | NAFTA-5,489 | Automotive exhaust components.
Johnson Controls (Wkrs) | Renyoldsburg, OH | 10/29/2001 | NAFTA-5,490 | Programmable temperature controls.
Creative Leather and Vinyl (Wkrs) | Brookfield, WI | 10/30/2001 | NAFTA-5,491 | Leather parts for shoes, wallets.
Wheeling Corrugating Co (Wkrs) | Chehalis, WA | 10/29/2001 | NAFTA-5,492 | Steel Products.
Buckeye Steel Castings Co (USWA) | Columbus, OH | 10/30/2001 | NAFTA-5,493 | Castings for Rail Cars.
SportRack Accessories (Wkrs) | Shelburne, VT | 10/29/2001 | NAFTA-5,494 | Sportrack Accessories.
Thermal Industries, Inc (Wkrs) | Pittsburgh, PA | 10/30/2001 | NAFTA-5,495 | Vinyl Lineal Extrusion.
Sony Electronics (Wkrs) | Mt. Pleasant, PA | 10/22/2001 | NAFTA-5,496 | Apexture Grilles, TV's.
Cardinal Brands/Hazel, Inc (Wkrs) | Washington, MO | 11/05/2001 | NAFTA-5,497 | Office Products—Duffle Bags, Backpacks.
Williamette Industries, Inc. (Co.) | Winston, OR | 11/02/2001 | NAFTA-5,498 | Laminated Veneer Lumber.
Prime Tanning Corp (RWDSU) | Saint Joseph, MO | 11/05/2001 | NAFTA-5,499 | Finished Leather.
Romart, Inc. (UNITE) | Scranton, PA | 10/31/2001 | NAFTA-5,500 | Men's Sport, Dress Coats, Formalwear.
Huhtamaki (Wkrs) | Mt. Carmel, PA | 10/31/2001 | NAFTA-5,501 | Plastic Containers and Lids.
Linnton Plywood Association (Co.) | Portland, OR | 10/30/2001 | NAFTA-5,502 | Lumber.
Telair International (Wrks) | Rancho Dominguez, CA | 10/31/2001 | NAFTA-5,503 | Air Cargo Containers.
Flambeau Corp (Co.) | Sun Prairie, WI | 11/01/2001 | NAFTA-5,504 | Cell Phone Components.
Bassett Mirror Co., Inc. (Wkrs) | Bassett, VA | 11/01/2001 | NAFTA-5,505 | Tables.
Syst-A-Matic Tool and Design (Co.) | Meadville, PA | 10/29/2001 | NAFTA-5,506 | Connector Holders—Automobiles.
Dana Corp. (Co.) | Robinson, IL | 11/01/2001 | NAFTA-5,507 | Automobiles.
Skyjack, Inc. (Wkrs) | Wathena, KS | 11/01/2001 | NAFTA-5,508 | Aerial Lifts.
HMG Intermark Worldwide Manufacturing (Co.) | Reading, PA | 11/01/2001 | NAFTA-5,509 | Assembly of Parts (Plastic, Wood, Metal).
Corning, Inc. (AFGWU) | State College, PA | 11/02/2001 | NAFTA-5,510 | Television Panels & Funnels.
Control Concepts Corp, (Co.) | Ocala, FL | 10/25/2001 | NAFTA-5,511 | Surge Suppression Equipment.
Sunbrand—Wilcox and Gibbs (Co.) | Norcross, GA | 11/05/2001 | NAFTA-5,512 | Software.
Cook Technologies (Wkrs) | Green Lane, PA | 11/02/2001 | NAFTA-5,513 | Medical blades.
Pennsylvania Tool and Gages (Co.) | Meadville, PA | 11/02/2001 | NAFTA-5,514 | Plastic injection molds.
Carlisle Engineered Products (UAW) | Erie, PA | 11/02/2001 | NAFTA-5,515 | Molding dies.
Tri Cities Manufacturing (Wkrs) | Tuscumbia, AL | 10/31/2001 | NAFTA-5,516 | Electronic assemblies for auto.
Armstrong—Hunt International (Wkrs) | Milton, FL | 11/02/2001 | NAFTA-5,517 | Heat exchangers.
Appleton Papers (Wkrs) | Camphill, PA | 11/06/2001 | NAFTA-5,518 | Carbonless paper.
Motor Coil Mfg.—Wabtec Corp. (Wkrs) | St. Louis, MO | 11/06/2001 | NAFTA-5,519 | Reconditioned train traction motors.
Willamette Industries (Co.) | Saginaw, OR | 10/29/2001 | NAFTA-5,520 | Lumber.
Value Line Textiles (Co.) | Pilot Mountain, NC | 11/07/2001 | NAFTA-5,521 | Socks.
Value LIne Textiles (Co.) | Lenior City, TN | 11/07/2001 | NAFTA-5,522 | Socks.
Motorola (Co.) | Elk Grove Village, IL | 11/05/2001 | NAFTA-5,523 | Radio transceivers.
Tresco Tool (Co.) | Guys Mills, PA | 11/08/2001 | NAFTA-5,524 | Plastic injection molds.
R.L. Stowe Mills (Co.) | Belmont, NC | 11/05/2001 | NAFTA-5,525 | Textile yarn.
Haskell Senator International (IUE) | Verona, PA | 11/08/2001 | NAFTA-5,526 | Office furniture.
Freudenberg=Nok (Wkrs) | Bensenville, IL | 11/08/2001 | NAFTA-5,527 | Crank shaft seals, pan seals & lop seals.
Robbins—Witt (Wkrs) | Wearren, AR | 11/08/2001 | NAFTA-5,528 | Flooring.
Safeway, Inc. (IBT) | Grandview, WA | 11/09/2001 | NAFTA-5,529 | Mayonnaise and salad dressing.
Bristol Compressors (Co.) | Sparta, NC | 11/09/2001 | NAFTA-5,530 | Compressors.
Regal Rugs (PACE) | North Vernon IN | 11/07/2001 | NAFTA-5,531 | Bath and accent rugs.
Flextronics International (Co.) | Palm Harbor, FL | 11/08/2001 | NAFTA-5,532 | Electronic boards.
Port Townsend Paper (PACE) | Port Townsend, WA | 11/08/2001 | NAFTA-5,533 | Kraft paper and kraft paper containers.
Trion Industries (Co.) | Wilkes Barre, PA | 11/07/2001 | NAFTA-5,534 | Packaging of toys.
Rich Products (BETGM) | Appleton, WI | 11/06/2001 | NAFTA-5,535 | Frozen bread, rolls, sweet goods etc.
Libro Shirt—Lebro Shirt (Co.) | Lykens, PA | 11/06/2001 | NAFTA-5,536 | Police uniform shirt.
Chem West Systems (Wkrs) | Portland, OR | 11/05/2001 | NAFTA-5,537 | Plastic cabinets.
St. Clair Technologies (Wkrs) | Charlotte, MI | 01/07/2001 | NAFTA-5,538 | Wiring harness.

[FR Doc. 01-28977 Filed 11-19-01; 8:45 am]

BILLING CODE 4510-30-M